DEPARTMENT OF VETERANS AFFAIRS

[OMB Control No. 2900-0117]

Proposed Information Collection (VA Form Letter 5-127, Inquiry Concerning Applicant for Employment)

AGENCY: Human Resources Administration, Department of Veterans Affairs.

ACTION: Notice; comment request.

SUMMARY: The Department of Veterans Affairs (VA), is announcing an opportunity for public comment on the proposed collection of certain information by the agency. Under the Paperwork Reduction Act (PRA) of 1995, Federal agencies are required to publish notice in the Federal Register concerning each proposed collection of information, including each proposed revision of a currently approved collection, and allow 60 days for public comment in response to the notice. This notice solicits comments on VA Form Letter 5-127, which is used by VA personnel officials to verify qualifications and determine suitability of applications for VA employment. This information is obtained from individuals who have knowledge of the applicant's past work record, performance, and character.

DATES: Written comments and recommendations on the proposed collection of information should be received on or before August 22, 2016.

ADDRESSES: Submit written comments on the collection of information through Federal Docket Management System (FDMS) at www.Regulations.gov or to Jean Hayes, Human Resources Administration (05), Department of Veterans Affairs, 810 Vermont Avenue NW., Washington, DC 20420 or email: jean.hayes@va.gov. Please refer to “OMB Control No. 2900-0117” in any correspondence. During the comment period, comments may be viewed online through the FDMS.

FOR FURTHER INFORMATION CONTACT: Jean Hayes at (202) 461-7863.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VA invites comments on: (1) Whether the proposed collection of information is necessary for the proper performance of VA's functions, including whether the information will have practical utility; (2) the accuracy of VA's estimate of the burden of the proposed collection of information; (3) ways to enhance the quality, utility, and clarity of the information to be collected; and (4) ways to minimize the burden of the collection of information on respondents, including through the use of automated collection techniques or the use of other forms of information technology.

Title: VA Form Letter 5-127, Inquiry concerning Applicant for Employment.

OMB Control Number: 2900-0117.

Type of Review: Extension of a Currently Approved Collection.

Abstract: The information obtained through use of VA Form Letter 5-127 is used by appointing officials in determining an applicant's suitability and qualifications for employment.

Affected Public: Individuals or households.

Estimated Annual Burden: 3,125 hours.

Estimated Average Burden per Respondent: 15 minutes.

Frequency of Response: Annual.

Estimated Number of Respondents: 12,500.

By direction of the Secretary.
Cynthia Harvey-Pryor,
Program Specialist, Enterprise Records Management Service, Office of Privacy and Records Management, Department of Veterans Affairs.

[FR Doc. 2016-14682 Filed 6-21-16; 8:45 am]

BILLING CODE 8320-01-P